DEPARTMENT OF COMMERCE

International Trade Administration

[C-570-936]

Circular Welded Carbon Quality Steel Line Pipe from the People's Republic of China: Notice of Postponement of Preliminary Determination in the Countervailing Duty Investigation

AGENCY: Import Administration, International Trade Administration, Department of Commerce.

EFFECTIVE DATE: June 6, 2008.

FOR FURTHER INFORMATION CONTACT: Kristen Johnson, AD/CVD Operations, Office 3, Import Administration, International Trade Administration, U.S. Department of Commerce, 14th Street and Constitution Avenue, NW., Washington, DC 20230; telephone (202) 482-4793.

SUPPLEMENTARY INFORMATION:

Background

On April 23, 2008, the Department of Commerce (the Department) initiated the countervailing duty investigation of circular welded carbon quality steel line pipe from the People's Republic of China. See Circular Welded Carbon Quality Steel Line Pipe from the People's Republic of China: Notice of Initiation of Countervailing Duty Investigation, 73 FR 23184 (April 29, 2008). Currently, the preliminary determination is due no later than June 27, 2008.

Postponement of Due Date for Preliminary Determination

Section 703(b)(1) of the Tariff Act of 1930, as amended (the Act), requires the Department to issue the preliminary determination in a countervailing duty investigation within 65 days after the date on which the Department initiated the investigation. However, if the Department concludes that the parties concerned in the investigation are cooperating and determines that the investigation is extraordinarily complicated, section 703(c)(1)(B) of the Act allows the Department to postpone making the preliminary determination until no later than 130 days after the date on which the administering authority initiated the investigation.

The Department is currently investigating alleged subsidy programs involving debt-for-equity swaps, loans, grants, income tax incentives, and the provision of goods and services for less than adequate remuneration. Due to the number and complexity of the alleged countervailable subsidy practices being investigated, it is not practicable to complete the preliminary determination of this investigation within the original time limit (i.e., by June 27, 2008). Therefore, in accordance with section 703(c)(1)(B) of the Act, we are fully extending the due date for the preliminary determination to no later than 130 days after the day on which the investigation was initiated. However, as that date falls on a Sunday, the deadline for completion of the preliminary determination is now September 2, 2008, the next business day after the Labor Day holiday.

This notice is issued and published pursuant to section 703(c)(2) of the Act.

Dated: May 30, 2008.
David M. Spooner,
Assistant Secretary for Import Administration.

[FR Doc. E8-12773 Filed 6-5-08; 8:45 am]

BILLING CODE 3510-DS-P